COUNCIL OF THE INSPECTORS GENERAL ON INTEGRITY AND EFFICIENCY

Senior Executive Service Performance Review Board Membership

AGENCY: Council of the Inspectors General on Integrity and Efficiency.

ACTION: Notice.

SUMMARY: This notice sets forth the names and titles of the current membership of the Council of the Inspectors General on Integrity and Efficiency (CIGIE) Performance Review Board as of October 1, 2016.

DATES: Effective Date: October 1, 2016.

FOR FURTHER INFORMATION CONTACT: Individual Offices of Inspectors General at the telephone numbers listed below.

SUPPLEMENTARY INFORMATION:

I. Background

The Inspector General Act of 1978, as amended, created the Offices of Inspectors General as independent and objective units to conduct and supervise audits and investigations relating to Federal programs and operations. The Inspector General Reform Act of 2008, established the Council of the Inspectors General on Integrity and Efficiency (CIGIE) to address integrity, economy, and effectiveness issues that transcend individual Government agencies; and increase the professionalism and effectiveness of personnel by developing policies, standards, and approaches to aid in the establishment of a well-trained and highly skilled workforce in the Offices of Inspectors General. The CIGIE is an interagency council whose executive chair is the Deputy Director for Management, Office of Management and Budget, and is comprised principally of the 73 Inspectors General (IGs).

II. CIGIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2016, are as follows:

Agency for International Development

Phone Number: (202) 712-1150

CIGIE Liaison—Justin Brown (202) 712-1150

Daniel Altman—Assistant Inspector General for Investigations.

Lisa McClennon—Deputy Assistant Inspector General for Investigations.

Thomas Yatsco—Assistant Inspector General for Audit.

Melinda Dempsey—Deputy Assistant Inspector General for Audit.

Alvin A. Brown—Deputy Assistant Inspector General for Audit.

Lisa Goldfluss—Legal Counsel to the Inspector General.

Aracely Nunez-Mattocks—Assistant Inspector General for Management.

Jason Carroll—Deputy Assistant Inspector General for Management.

Department of Agriculture

Phone Number: (202) 720-8001

CIGIE Liaison—Angel N. Bethea (202) 720-8001

David R. Gray—Deputy Inspector General.

Christy A. Slamowitz—Counsel to the Inspector General.

Gilroy Harden—Assistant Inspector General for Audit.

Steven H. Rickrode, Jr.—Deputy Assistant Inspector General for Audit.

Yarisis Rivera Rojas—Deputy Assistant Inspector General for Audit.

Ann M. Coffey—Assistant Inspector General for Investigations.

Peter P. Paradis, Sr.—Deputy Inspector General for Investigations.

Rodney G. DeSmet—Assistant Inspector General for Data Science.

Lane M. Timm—Assistant Inspector General for Management.

Department of Commerce

Phone Number: (202) 482-4661

CIGIE Liaison—Clark Reid (202) 482-4661

Ann Eilers—Assistant Inspector General for Administration.

Allen Crawley—Assistant Inspector General for Systems Acquisition and IT Security.

Mark Greenblatt—Assistant Inspector General for Investigations.

Andrew Katsaros—Assistant Inspector General for Audit Quality and Broadband.

Mark Zabarsky—Assistant Inspector General for Acquisition and Special Program Audits.

Richard Krasner (SL)—Satellite Analyst.

Department of Defense

Phone Number: (703) 604-8324

Acting CIGIE Liaison—Brett Mansfield (703) 604-8300

Daniel R. Blair—Deputy Chief of Staff.

Michael S. Child, Sr.—Deputy Inspector General for Overseas Contingency Operations.

Carol N. Gorman—Assistant Inspector General for Readiness and Cyber Operations.

Carolyn R. Hantz—Assistant Inspector General for Audit Policy and Oversight.

Dr. Brett Baker—Deputy Inspector General for Auditing.

Glenn A. Fine—Principal Deputy Inspector General.

Marguerite C. Garrison—Deputy Inspector General for Administrative Investigations.

Robert Kwalwasser—Assistant Inspector General for Investigative Policy & Oversight.

Kenneth P. Moorefield—Deputy Inspector General for Special Plans and Operations.

Dermot F. O'Reilly—Acting Deputy Inspector General for Investigations.

Michael J. Roark—Assistant Inspector General for Contract Management and Payment.

Henry C. Shelley, Jr.—General Counsel.

Steven A. Stebbins—Chief of Staff.

Randolph R. Stone—Deputy Inspector General for Policy and Oversight.

Anthony C. Thomas—Deputy Inspector General for Intelligence and Special Program Assessments.

Jacqueline L. Wicecarver—Assistant Inspector General for Acquisition, Parts, and Inventory.

Lorin T. Venable—Assistant Inspector General for Financial Management and Reporting.

Department of Education

Phone Number: (202) 245-6900

CIGIE Liaison—Janet Harmon (202) 245-6076

David Morris—Assistant Inspector General for Management Services.

Patrick Howard—Assistant Inspector General for Audit.

Bryon Gordon—Deputy Assistant Inspector General for Audit.

Aaron Jordan—Assistant Inspector General for Investigations.

Mark Smith—Deputy Assistant Inspector General for Investigations.

Charles Coe—Assistant Inspector General for Information Technology Audits and Computer Crime Investigations.

Marta Erceg—Counsel to the Inspector General.

Department of Energy

Phone Number: (202) 586-4393

CIGIE Liaison—Tara Porter (202) 586-5798

April Stephenson—Assistant Inspector General for Audits and Inspections.

Sarah Nelson—Assistant Inspector General for Audits and Administration.

Michelle Anderson—Assistant Inspector General for Audits and Inspections.

John Dupuy—Assistant Inspector General for Investigations.

Tara Porter—Assistant Inspector General for Management and Administration.

Virginia Grebasch—Counsel to the Inspector General.

David Sedillo—Deputy Assistant Inspector General for Audits and Inspections.

Jack Rouch—Deputy Assistant Inspector General for Audits.

Debra Solmonson—Deputy Assistant Inspector General for Audits and Inspections.

Environmental Protection Agency

CIGIE Liaison—Jennifer Kaplan (202) 566-0918

Charles Sheehan—Deputy Inspector General.

Patrick Sullivan—Assistant Inspector General for Investigations.

Carolyn Copper—Assistant Inspector General for Program Evaluation.

Alan Larsen—Counsel to the Inspector General and Assistant Inspector General for Congressional and Public Affairs.

Kevin Christensen—Assistant Inspector General for Audits.

Federal Labor Relations Authority

Phone Number: (202) 218-7744

CIGIE Liaison—Dana Rooney (202) 218-7744

Dana Rooney—Inspector General.

Federal Maritime Commission

Phone Number: (202) 523-5863

CIGIE Liaison—Jon Hatfield (202) 523-5863

Jon Hatfield—Inspector General.

Federal Trade Commission

Phone Number: (202) 326-3295

CIGIE Liaison—Roslyn A. Mazer (202) 326-3295

Roslyn A. Mazer—Inspector General.

General Services Administration

Phone Number: (202) 501-0450

CIGIE Liaison—Sarah S. Breen (202) 219-1351

Robert C. Erickson—Deputy Inspector General.

R. Nicholas Goco—Assistant Inspector General for Auditing.

Lee Quintyne—Assistant Inspector General for Investigations.

James E. Adams—Deputy Assistant Inspector General for Investigations.

Stephanie E. Burgoyne—Assistant Inspector General for Administration.

Larry L. Gregg—Associate Inspector General.

Patricia D. Sheehan—Assistant Inspector General for Inspections.

Department of Health and Human Services

Phone Number: (202) 619-3148

CIGIE Liaison—Elise Stein (202) 619-2686

Joanne Chiedi—Principal Deputy Inspector General.

Robert Owens, Jr.—Deputy Inspector General for Management and Policy.

Caryl Brzymialkiewicz—Assistant Inspector General/Chief Data Officer.

Gary Cantrell—Deputy Inspector General for Investigations.

Les Hollie—Assistant Inspector General for Investigations.

Thomas O'Donnell—Assistant Inspector General for Investigations.

Tyler Smith—Assistant Inspector General for Investigations.

Suzanne Murrin—Deputy Inspector General for Evaluation and Inspections.

Erin Bliss—Assistant Inspector General for Evaluation and Inspections.

Ann Maxwell—Assistant Inspector General for Evaluation and Inspections.

Gregory Demske—Chief Counsel to the Inspector General.

Robert DeConti—Assistant Inspector General for Legal Affairs.

Gloria Jarmon—Deputy Inspector General for Audit Services.

Amy Frontz—Assistant Inspector General for Audit Services.

Brian Ritchie—Assistant Inspector General for Audit Services.

Department of Homeland Security

Phone Number: (202) 254-4100

CIGIE Liaison—Erica Paulson (202) 254-0938

John Kelly—Deputy Inspector General.

Laurel Rimon—Counsel to the Inspector General.

Mark Bell—Assistant Inspector General for Audits.

Donald Bumgardner—Deputy Assistant Inspector General for Audits.

Maureen Duddy—Deputy Assistant Inspector General for Audits.

Thomas Salmon—Assistant Inspector General for Emergency Management Oversight.

Sondra McCauley—Assistant Inspector General for Information Technology Audits.

Anne L. Richards—Assistant Inspector General for Inspections and Evaluation.

Andrew Oosterbaan—Assistant Inspector General for Investigations.

Michele Kennedy—Deputy Inspector General for Investigations.

Dennis McGunagle—Deputy Inspector General for Investigations.

John E. McCoy II—Assistant Inspector General for Integrity and Quality Oversight.

Louise M. McGlathery—Assistant Inspector General for Management.

Doris A. Wojnarowski—Deputy Assistant Inspector General for Management.

James P. Gaughran—Whistleblower Protection Ombudsman.

Department of Housing and Urban Development

Phone Number: (202) 708-0430

CIGIE Liaison—Michael White (202) 402-8410

Joe Clarke—Assistant Inspector General for Investigations.

Nicholas Padilla—Deputy Assistant Inspector General for Investigations.

Randy McGinnis—Assistant Inspector General for Audit.

Frank Rokosz—Deputy Assistant Inspector General for Audit.

John Buck—Deputy Assistant Inspector General for Audit.

Kimberly Randall—Deputy Assistant Inspector General for Audit.

Laura Farrior—Deputy Assistant Inspector General for Management.

Jeremy Kirkland—Counsel to the Inspector General.

Eddie Saffarinia—Sr. Advisor to the Assistant Inspector General for Management.

Department of the Interior

Phone Number: (202) 208-5745

CIGIE Liaison—Joann Gauzza (202) 208-5745

Steve Hardgrove—Chief of Staff.

Kimberly Elmore—Assistant Inspector General for Audits, Inspections and Evaluations.

Matt Elliott—Assistant Inspector General for Investigations.

Bruce Delaplaine—General Counsel.

Roderick Anderson—Assistant Inspector General for Management.

Department of Justice

Phone Number: (202) 514-3435

CIGIE Liaison—Jay Lerner (202) 514-3435

Robert P. Storch—Deputy Inspector General.

William M. Blier—General Counsel.

Daniel C. Beckhard—Assistant Inspector General for Oversight and Review.

Michael Sean O'Neill—Deputy Assistant Inspector General for Oversight and Review.

Jason R. Malmstrom—Assistant Inspector General for Audit.

Mark L. Hayes—Deputy Assistant Inspector General for Audit.

Eric A. Johnson—Assistant Inspector General for Investigations.

Nina S. Pelletier—Assistant Inspector General for Evaluation and Inspections.

Gregory T. Peters—Assistant Inspector General for Management and Planning.

Cynthia Lowell—Deputy Assistant Inspector for Management and Planning.

Department of Labor

Phone Number: (202) 693-5100

CIGIE Liaison—Luiz Santos (202) 693-7062

Larry D. Turner—Deputy Inspector General.

Howard Shapiro—Counsel to the Inspector General.

Elliot P. Lewis—Assistant Inspector General for Audit.

Debra D. Pettitt—Deputy Assistant Inspector General for Audit.

Cheryl Garcia—Assistant Inspector General for Labor Racketeering and Fraud Investigations.

Thomas D. Williams—Assistant Inspector General for Management and Policy.

Charles Sabatos—Deputy Assistant Inspector General for Management and Policy.

Jessica Southwell—Chief Performance and Risk Management Officer.

National Aeronautics and Space Administration

Phone Number: (202) 358-1220

CIGIE Liaison—Renee Juhans (202) 358-1712

Gail A. Robinson—Deputy Inspector General.

Frank LaRocca—Counsel to the Inspector General.

James R. Ives—Assistant Inspector General for Investigations.

James L. Morrison—Assistant Inspector General for Audits.

Ross W. Weiland—Assistant Inspector General for Management Planning.

National Labor Relations Board

Phone Number: (202) 273-1960

CIGIE Liaison—Robert Brennan (202) 273-1960

David P. Berry—Inspector General.

National Science Foundation

Phone Number: (703) 292-7100

CIGIE Liaison—Susan Carnohan (703) 292-5011

Alan Boehm—Assistant Inspector General for Investigations.

Kenneth Chason—Counsel to the Inspector General.

Nuclear Regulatory Commission

Phone Number: (301) 415-5930

CIGIE Liaison—Judy Gordon (301) 415-5913

David C. Lee—Deputy Inspector General.

Joseph A. McMillan—Assistant Inspector General for Investigations.

Office of Personnel Management

Phone Number: (202) 606-1200

CIGIE Liaison—Joyce D. Price (202) 606-2156

Norbert E. Vint—Acting Inspector General.

J. David Cope—Acting Deputy Inspector General.

James L. Ropelewski—Assistant Inspector General for Management.

Michelle B. Schmitz—Assistant Inspector General for Investigations.

Michael R. Esser—Assistant Inspector General for Audits.

Melissa D. Brown—Deputy Assistant Inspector General for Audits.

Lewis F. Parker—Deputy Assistant Inspector General for Audits.

Gopala Seelamneni—Chief Information Technology Officer.

Peace Corps

Phone Number: (202) 692-2900

CIGIE Liaison—Joaquin Ferrao (202) 692-2921

Kathy Buller—Inspector General (Foreign Service).

United States Postal Service

Phone Number: (703) 248-2100

CIGIE Liaison—Agapi Doulaveris (703) 248-2286

Elizabeth Martin—General Counsel.

Gladis Griffith—Deputy General Counsel.

Mark Duda—Assistant Inspector General for Audits.

Railroad Retirement Board

Phone Number: (312) 751-4690

CIGIE Liaison—Jill Roellig (312) 751-4993

Patricia A. Marshall—Counsel to the Inspector General.

Heather Dunahoo—Assistant Inspector General for Audit.

Louis Rossignuolo—Assistant Inspector General for Investigations.

Small Business Administration

Phone Number: (202) 205-6586

CIGIE Liaison—Robert F. Fisher (202) 205-6583 and Sheldon R. Shoemaker (202) 205-0080

Hannibal M. Ware—Deputy Inspector General.

Troy M. Meyer—Assistant Inspector General for Auditing.

Mark P. Hines—Assistant Inspector General for Investigations.

Robert F. Fisher—Assistant Inspector General for Management and Administration.

Social Security Administration

Phone Number: (410) 966-8385

CIGIE Liaison—Kristin Klima (202) 358-6319

Rona Lawson—Assistant Inspector General for Audit.

Joseph Gangloff—Counsel to the Inspector General.

Michael Robinson—Assistant Inspector General for Investigations.

Kelly Bloyer—Assistant Inspector General for Communications and Resource Management.

Special Inspector General for Troubled Asset Relief Program

Phone Number: (202) 622-1419

CIGIE Liaison—B. Chad Bungard (202) 927-8938

Peggy Ellen—Deputy Special Inspector General.

Charles (Chris) Gregorski—Deputy Special Inspector General, Investigations.

B. Chad Bungard—General Counsel.

Jenniffer Wilson—Deputy Special Inspector General, Audit and Evaluations.

Department of State and the Broadcasting Board of Governors

Phone Number: (202) 663-0340

CIGIE Liaison—Richard Puglisi (202) 663-0662

Emilia DiSanto—Deputy Inspector General.

Michael Mobbs—General Counsel.

Norman P. Brown—Assistant Inspector General for Audits.

Sandra J. Lewis—Assistant Inspector General for Inspections.

Geoffrey A. Cherrington—Assistant Inspector General for Investigations.

Karen J. Ouzts—Assistant Inspector General for Management.

Jennifer L. Costello—Assistant Inspector General for Evaluations and Special Projects.

Gayle Voshell—Deputy Assistant Inspector General for Audits.

Tinh T. Nguyen—Deputy Assistant Inspector General for Middle East Region Operations.

Harrison Ford—Deputy Assistant Inspector General for Inspections.

Michael Ryan—Deputy Assistant Inspector General for Investigations.

Cathy D. Alix—Deputy Assistant Inspector General for Management.

Department of Transportation

Phone Number: (202) 366-1959

CIGIE Liaison—Nathan P. Richmond: (202) 493-0422

Mitchell L. Behm—Deputy Inspector General.

Brian A. Dettelbach—Assistant Inspector General for Legal, Legislative, and External Affairs.

Dr. Eileen Ennis—Assistant Inspector General for Administration.

Michelle T. McVicker—Principal Assistant Inspector General for Investigations.

Max Smith—Deputy Assistant Inspector General for Investigations.

Joseph W. Comé—Principal Assistant Inspector General for Auditing and Evaluation.

Charles A. Ward—Assistant Inspector General for Aviation Audits.

Matthew E. Hampton—Assistant Inspector General for Aviation Audits.

Barry DeWeese—Assistant Inspector General for Surface Transportation Audits.

Louis C. King—Assistant Inspector General for Financial and Information Technology Audits.

Mary Kay Langan-Feirson—Assistant Inspector General for Acquisition and Procurement Audits.

Department of the Treasury

Phone Number: (202) 622-1090

CIGIE Liaison—Susan G. Marshall (202) 927-9842

Richard K. Delmar—Counsel to the Inspector General.

Tricia L. Hollis—Assistant Inspector General for Management.

John L. Phillips—Assistant Inspector General for Investigations.

Jerry S. Marshall—Deputy Assistant Inspector General for Investigations.

Donna F. Joseph—Deputy Assistant Inspector General for Cyber and Financial Assistance Audit.

Lisa A. Carter—Deputy Assistant Inspector General for Audit (Financial Sector Audits).

Treasury Inspector General for Tax Administration/Department of the Treasury

Phone Number: (202) 622-6500

CIGIE Liaison— David Barnes (Acting) (202) 622-3062

Timothy Camus—Deputy Inspector General for Investigations.

Michael McKenney—Deputy Inspector General for Audit.

Michael Delgado—Assistant Inspector General for Investigations.

Russell Martin—Assistant Inspector General for Audit (Returns Processing & Account Services).

Greg Kutz—Acting Deputy Inspector General for Inspections and Evaluations/Assistant Inspector General for Audit (Management Services & Exempt Organizations).

Matthew Weir—Assistant Inspector General for Audit (Compliance and Enforcement Operations).

Gayle Hatheway—Deputy Assistant Inspector General for Investigations

James Jackson—Deputy Assistant Inspector General for Investigations.

Randy Silvis—Deputy Assistant Inspector General for Investigations.

Gladys Hernandez—Chief Counsel.

George Jakabcin—Chief Information Officer.

Thomas Carter—Deputy Chief Counsel.

Department of Veterans Affairs

Phone Number: (202) 461-4720

CIGIE Liaison—Megan VanLandingham (202) 461-4720

Quentin G. Aucoin—Assistant Inspector General for Investigations.

Gary K. Abe—Deputy Assistant Inspector General for Audits and Evaluations (Field Operations).

Jason R. Woodward—Deputy Assistant Inspector General for Management and Administration.

John D. Daigh—Assistant Inspector General for Healthcare Inspections.

Claire McDonald—Deputy Assistant Inspector General for Healthcare Inspections.

Dated: August 25, 2016.
Mark D. Jones,
Executive Director.

[FR Doc. 2016-20791 Filed 8-29-16; 8:45 am]

BILLING CODE 6820-C9-P